SUSQUEHANNA RIVER BASIN COMMISSION

Actions Taken at June 15, 2018, Meeting

AGENCY: Susquehanna River Basin Commission.

ACTION: Notice.

SUMMARY: As part of its regular business meeting held on June 15, 2018, in Baltimore, Maryland, the Commission approved or tabled the applications of certain water resources projects; and took additional actions, as set forth in the Supplementary Information below.

DATES: June 15, 2018.

ADDRESSES: Susquehanna River Basin Commission, 4423 N Front Street, Harrisburg, PA 17110-1788.

FOR FURTHER INFORMATION CONTACT: Gwyn Rowland, Manager, Governmental and Public Affairs, telephone: 717-238-0423, ext. 1316; fax: 717-238-2436; growland@srbc.net. Regular mail inquiries may be sent to the above address. See also Commission website at www.srbc.net.

SUPPLEMENTARY INFORMATION: In addition to the actions taken on projects identified in the summary above and the listings below, the following items were also presented or acted upon at the business meeting: (1) Election of the member from the State of New York as Chair of the Commission and the member of the Commonwealth of Pennsylvania as Vice Chair of the Commission for the period of July 1, 2018, to June 30, 2019; (2) adoption of FY2019 Regulatory Program Fee Schedule, effective July 1, 2018; (3) adoption of a current expense budget for the period of July 1, 2019, to June 30, 2020; (4) adoption of a resolution authorizing a purchase approval threshold; (5) approval of an agreement, a grant amendment and a subcontract; (6) adoption of a records retention policy; (7) delegation of authority to the Executive Director to enter into certain settlement agreements to resolve violations of regulations or approval conditions; (8) adoption of the FY2019-2021 Water Resources Program; (9) adoption of amendments to the Comprehensive Plan for the Water Resources of the Susquehanna River Basin; and (10) a report on delegated settlements with the following project sponsors, pursuant to Commission Resolution 2014-15: Briarwood Golf Club, in the amount of $4,000; Sugar Hollow Water Services, in the amount of $8,000; SWEPI LP—Cowanesque River, in the amount of $10,000; and Valley Green Golf Course, in the amount of $1,500 with agreement to add a water source.

Project Applications Approved

The Commission approved the following project applications:

1. Project Sponsor and Facility: Brymac, Inc. dba Mountain View Country Club (Pond 3/4), Harris Township, Centre County, PA. Surface water withdrawal of up to 0.240 mgd (peak day).

2. Project Sponsor and Facility: Dillsburg Area Authority, Franklin Township, York County, PA. Modification to increase groundwater withdrawal by an additional 0.099 mgd (30-day average), for a total groundwater withdrawal of up to 0.200 mgd (30-day average) from Well 3 (Docket No. 20081207).

3. Project Sponsor and Facility: Healthy Properties, Inc. (Sugar Creek), North Towanda Township, Bradford County, PA. Renewal of surface water withdrawal of up to 0.999 mgd (peak day) (Docket No. 20140602).

4. Project Sponsor and Facility: LDG Innovation, LLC (Tioga River), Lawrenceville Borough, Tioga County, PA. Renewal of surface water withdrawal of up to 0.750 mgd (peak day) (Docket No. 20140604).

5. Project Sponsor and Facility: Lycoming Engines, a Division of Avco Corporation, City of Williamsport, Lycoming County, PA. Renewal of groundwater withdrawal of up to 1.440 mgd (30-day average) for groundwater remediation system (Docket No. 19880203).

6. Project Sponsor and Facility: Mountain Energy Services, Inc. (Tunkhannock Creek), Tunkhannock Township, Wyoming County, PA. Renewal of surface water withdrawal of up to 1.498 mgd (peak day) (Docket No. 20140606).

7. Project Sponsor and Facility: Niagara H2O Company (Susquehanna River), Towanda Township, Bradford County, PA. Application for surface water withdrawal of up to 1.500 mgd (peak day).

8. Project Sponsor and Facility: Northeast Marcellus Aqua Midstream I, LLC (Susquehanna River), Tunkhannock Township, Wyoming County, PA. Surface water withdrawal of up to 5.000 mgd (peak day).

9. Project Sponsor and Facility: Pennsylvania General Energy Company, L.L.C. (Pine Creek), Watson Township, Lycoming County, PA. Renewal of surface water withdrawal of up to 0.918 mgd (peak day) (Docket No. 20140609).

10. Project Sponsor and Facility: Pro-Environmental, LLC (Martins Creek), Lathrop Township, Susquehanna County, PA. Renewal of surface water withdrawal of up to 0.999 mgd (peak day) (Docket No. 20140610).

11. Project Sponsor and Facility: Repsol Oil & Gas USA, LLC (Fall Brook), Troy Township, Bradford County, PA. Renewal of surface water withdrawal of up to 0.176 mgd (peak day) (Docket No. 20140615).

12. Project Sponsor and Facility: Repsol Oil & Gas USA, LLC (Unnamed Tributary to North Branch Sugar Creek), Columbia Township, Bradford County, PA. Renewal of surface water withdrawal of up to 0.926 mgd (peak day) (Docket No. 20140616).

13. Project Sponsor and Facility: Sugar Hollow Water Services LLC (Bowman Creek), Eaton Township, Wyoming County, PA. Renewal of surface water withdrawal of up to 0.249 mgd (peak day) (Docket No. 20140612).

14. Project Sponsor and Facility: Susquehanna Gas Field Services, LLC, Meshoppen Borough, Wyoming County, PA. Renewal of groundwater withdrawal of up to 0.216 mgd (30-day average) from the Meshoppen Pizza Well (Docket No. 20140613).

15. Project Sponsor and Facility: Susquehanna Gas Field Services, LLC (Susquehanna River), Meshoppen Township, Wyoming County, PA. Renewal of surface water withdrawal of up to 1.650 mgd (peak day) (Docket No. 20140614).

16. Project Sponsor and Facility: Town of Vestal, Broome County, NY. Renewal of groundwater withdrawal of up to 1.440 mgd (30-day average) from Well 4-4 (Docket No. 19810508).

Project Applications Tabled

The Commission tabled action on the following project applications:

1. Project Sponsor: SUEZ Water Pennsylvania Inc. Project Facility: Center Square Operation, Upper Allen Township, Cumberland County, PA. Application for groundwater withdrawal of up to 0.107 mgd (30-day average) from Well 1.

2. Project Sponsor: SUEZ Water Pennsylvania Inc. Project Facility: Center Square Operation, Upper Allen Township, Cumberland County, PA. Application for renewal of groundwater withdrawal of up to 0.379 mgd (30-day average) from Well 2 (Docket No. 19861104).

3. Project Sponsor and Facility: Togg Mountain LLC, Town of Fabius, Onondaga County, NY. Application for consumptive use of up to 0.485 mgd (peak day).

4. Project Sponsor and Facility: Togg Mountain LLC (West Branch of Tioughnioga Creek), Town of Fabius, Onondaga County, NY. Application for surface water withdrawal of up to 2.200 mgd (peak day).

Authority: Pub. L. 91-575, 84 Stat. 1509 et seq., 18 CFR parts 806, 807, and 808.

Dated: August 6, 2018.
Stephanie L. Richardson,
Secretary to the Commission.

[FR Doc. 2018-17128 Filed 8-9-18; 8:45 am]

BILLING CODE 7040-01-P